OFFICE OF THE UNITED STATES TRADE REPRESENTATIVE

Determination Regarding Waiver of Discriminatory Purchasing Requirements With Respect to Goods and Services of the Republic of Moldova

AGENCY: Office of the United States Trade Representative.

ACTION: Notice.

SUMMARY: On September 21, 2015, the WTO Committee on Government Procurement approved the accession of the Republic of Moldova to the World Trade Organization (WTO) Agreement on Government Procurement (GPA). The United States, which also is a party to the GPA, has agreed to waive discriminatory purchasing requirements for eligible products and suppliers of the Republic of Moldova beginning on July 14, 2016

DATES: Effective July 14, 2016.

FOR FURTHER INFORMATION CONTACT: Scott Pietan, Director of International Procurement Policy, Office of the United States Trade Representative, 202-395-9646.

SUPPLEMENTARY INFORMATION: On September 21, 2015, the WTO Committee on Government Procurement approved the accession of the Republic of Moldova to the GPA. The Republic of Moldova submitted its instrument of accession to the Secretary-General of the WTO on June 14, 2016. The GPA will enter into force for the Republic of Moldova on July 14, 2016. The United States, which also is a party to the GPA, has agreed to waive discriminatory purchasing requirements for eligible products and suppliers of the Republic of Moldova beginning on July 14, 2016.

Section 1-201 of Executive Order 12260 of December 31, 1980, delegated the functions of the President under sections 301 and 302 of the Trade Agreements Act of 1979 (the Trade Agreements Act) (19 U.S.C. 2511, 2512) to the United States Trade Representative.

Determination

In conformity with sections 301 and 302 of the Trade Agreements Act, and in order to carry out U.S. obligations under the GPA, I hereby determine that:

1. The Republic of Moldova has become a party to the GPA and will provide appropriate reciprocal competitive government procurement opportunities to United States products and services and suppliers of such products and services. In accordance with section 301(b)(1) of the Trade Agreements Act, the Republic of Moldova is so designated for purposes of section 301(a) of the Trade Agreements Act.

2. Accordingly, beginning on July 14, 2016, with respect to eligible products of the Republic of Moldova, namely, those goods and services covered under the GPA for procurement by the United States, and suppliers of such products, the application of any law, regulation, procedure or practice regarding government procurement that would, if applied to such products and suppliers, result in treatment less favorable than that accorded:

A. to United States products and suppliers of such products, or

B. to eligible products of another foreign country or instrumentality which is a party to the GPA and suppliers of such products, shall be waived. This waiver shall be applied by all entities listed in United States Annexes 1 and 3 of GPA Appendix 1.

3. The United States Trade Representative may modify or withdraw the designation in paragraph 1 and the waiver in paragraph 2.

Michael B.G. Froman,
United States Trade Representative.

[FR Doc. 2016-17973 Filed 7-28-16; 8:45 am]

BILLING CODE 3290-F6-P